DEPARTMENT OF COMMERCE

International Trade Administration

[C-533-821, C-560-813]

Notice of Amended Final Determination and Notice of Countervailing Duty Orders: Certain Hot-Rolled Carbon Steel Flat Products From India and Indonesia

AGENCY: Import Administration, International Trade Administration, Department of Commerce.

EFFECTIVE DATE: December 3, 2001.

FOR FURTHER INFORMATION CONTACT: Eric B. Greynolds (202) 482-6071 (India), and Stephanie Moore (202) 482-3692 (Indonesia), Office of AD/CVD Enforcement VI, Import Administration, International Trade Administration, U.S. Department of Commerce, 14th Street and Constitution Avenue, NW., Washington, DC 20230.

The Applicable Statute and Regulations

Unless otherwise indicated, all citations to the statute are references to the provisions of the Tariff Act of 1930, as amended by the Uruguay Round Agreements Act effective January 1, 1995 (the Act). In addition, unless otherwise indicated, all citations to the Department's regulations are to the current regulations codified at 19 CFR part 351 (2001).

Scope of Orders

For purposes of these orders, the products covered are certain hot-rolled flat-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of these orders.

Specifically included within the scope of these orders are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of these orders, regardless of definitions in the Harmonized Tariff Schedule of the United States (HTS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of these orders unless otherwise excluded. The following products, by way of example, are outside or specifically excluded from the scope of these orders:

• Alloy hot-rolled steel products in which at least one of the chemical elements exceeds those listed above (including, e.g., ASTM specifications A543, A387, A514, A517, A506).

• SAE/AISI grades of series 2300 and higher.

• Ball bearings steels, as defined in the HTS.

• Tool steels, as defined in the HTS.

• Silico-manganese (as defined in the HTS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to these orders are classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon-quality steel covered by these orders, including: Vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs purposes, the Department's written description of the merchandise subject to these proceedings is dispositive.

Amended Final Determination for India

On October 3, 2001, petitioners¹ alleged ministerial errors in the calculations of the Final Affirmative Countervailing Duty Determination: Certain Hot-Rolled Carbon Steel Flat Products from India, 66 FR 49635 (September 28, 2001) (Final Determination), with respect to Essar Steel Limited (Essar) and the Steel Authority of India Limited (SAIL). On October 9, 2001, we received comments from SAIL regarding petitioners' ministerial error allegations.

¹ The petitioners in these proceedings are Bethlehem Steel Corporation, Gallatin Steel Company, IPSCO Steel Inc., LTV Steel Company, Inc., National Steel Corporation, Nucor Corporation, Steel Dynamics, Inc., U.S. Steel Group, a unit of USX Corporation, Weirton Steel Corporation, Independent Steelworkers Union, and the Independent Steelworkers of America.

Regarding Essar, petitioners alleged that the Department incorrectly calculated the number of days outstanding for one of Essar's Pre-Shipment loans. We agree with petitioners and have recalculated the benefit under the program using the correct number of days outstanding.

Regarding SAIL, petitioners alleged that the Department incorrectly calculated the ad valorem subsidy rate for SAIL's Steel Development Fund (SDF) loan that was outstanding during the period of investigation (POI). They argued that in calculating the benefit under the program, the Department properly calculated the benefit from the interest deferral granted to the company in each month but inadvertently failed to take into account the additional benefit received by SAIL from each month's interest deferral over the entire POI. In other words, they contended that the Department should calculate the benefit from the January interest payment deferral over a 12-month period, the benefit from the February interest payment deferral over an 11-month period, etc. SAIL argued that if the Department agrees with petitioners, it should revise the approach advocated by petitioners so that the duration of each interest payment deferral period is calculated on the last day of each month, which was the day the interest payment was due. We agree with petitioners that we should take into account the benefit received by SAIL from each month's interest waiver over the entire POI. The Department's Countervailing Duty (CVD) Regulations state that interest-free loans and deferred interest payments should be treated as government-provided loans in the amount of the interest deferred. See Preamble to CVD Regulations at 63 FR 65369 and 19 CFR 351.509(a)(2). Accordingly, we have revised our calculation under this program such that the benefit corresponds to the duration of each interest payment deferral period during the POI. In addition, in accordance with SAIL's comments, we have calculated the duration of each interest payment deferral period beginning on the last day of each month.

Regarding SAIL, petitioners further alleged that with respect to the company's use of the Exemption of Pre-Shipment Export Credit from Interest Tax program, the Department inadvertently divided the benefit by SAIL's total export sales rather than dividing the benefit by SAIL's total sales of subject merchandise to the United States. We agree with petitioners. Information on the record of this investigation indicates that SAIL's use of this program is tied to individual shipments. Accordingly, we have divided SAIL's benefit under this program by its total sales of subject merchandise to the United States.

The corrections for Essar and SAIL are discussed in further detail in the October 16, 2001 memorandum to Bernard Carreau, Deputy Assistant Secretary, AD/CVD Enforcement II, Import Administration, from Melissa G. Skinner, Director, Office of AD/CVD Enforcement VI. The public version of this memorandum is on file in Room B-099 in the Central Records Unit (CRU) of the Main Commerce Building.

As a result of our corrections, the estimated net countervailable subsidy rate attributable to Essar increased from 8.32 percent ad valorem to 8.35 percent ad valorem. The cash deposit rate attributable to Essar increased from 8.25 percent ad valorem to 8.28 percent ad valorem. The estimated net countervailable subsidy rate attributable to SAIL increased from 18.38 percent ad valorem to 18.45 percent ad valorem. The cash deposit rate attributable to SAIL increased from 18.22 percent ad valorem to 18.27 percent ad valorem.

Due to the revisions of Essar's and SAIL's net subsidy and cash deposit rates, the all others rate has also changed. The all others net countervailable subsidy rate increased from 16.17 percent ad valorem to 16.20 percent ad valorem. The all others cash deposit rate increased from 16.08 percent ad valorem to 16.10 percent ad valorem.

Countervailing Duty Orders

In accordance with section 705(d) of the Act, on September 28, 2001, the Department published its final determinations in the countervailing duty investigations of certain hot-rolled carbon steel flat products from India (66 FR 49635) and Indonesia (66 FR 49637). On November 13, 2001, the International Trade Commission (ITC) notified the Department of its final determination, pursuant to section 705(b)(1)(A)(i) of the Act, that an industry in the United States suffered material injury as a result of subsidized imports of certain hot-rolled carbon steel flat products from India and Indonesia.

Therefore, countervailing duties will be assessed on all unliquidated entries of certain hot-rolled carbon steel flat products from India and Indonesia entered, or withdrawn from warehouse, for consumption on or after April 20, 2001, the date on which the Department published its preliminary affirmative countervailing duty determinations in the Federal Register, and before August 18, 2001, the date the Department instructed the U.S. Customs Service to discontinue the suspensions of liquidation in accordance with section 703(d) of the Act, and on all entries and withdrawals of subject merchandise made on or after the date of publication of these countervailing duty orders in the Federal Register. Section 703(d) states that the suspension of liquidation pursuant to a preliminary determination may not remain in effect for more than four months. Entries of certain hot-rolled carbon steel flat products made on or after August 18, 2001, and prior to the date of publication of these orders in the Federal Register are not liable for the assessment of countervailing duties due to the Department's discontinuation, effective August 18, 2001, of the suspensions of liquidation.

In accordance with section 706 of the Act, the Department will direct U.S. Customs officers to reinstitute the suspension of liquidation for certain hot-rolled carbon steel flat products from India and Indonesia effective the date of publication of this notice in the Federal Register and to assess, upon further advice by the Department pursuant to section 706(a)(1) of the Act, countervailing duties for each entry of the subject merchandise in an amount based on the net countervailable subsidy rates for the subject merchandise.

On or after the date of publication of this notice in the Federal Register, U.S. Customs officers must require, at the same time as importers would normally deposit estimated duties on this merchandise, a cash deposit equal to the rates noted below. The All Others rates apply to all producers and exporters of certain hot-rolled carbon steel flat products from India and Indonesia not specifically listed below. The cash deposit rates are as follows:

Producer/exporter: India | Cash deposit rate
Essar Steel Limited (Essar) | 8.28 percent ad valorem.
Ispat Industries Limited (Ispat) | 31.89 percent ad valorem.
Steel Authority of India Limited (SAIL) | 18.27 percent ad valorem.
Tata Iron and Steel Company Limited (TISCO) | 9.17 percent ad valorem.
All Others Rate | 16.10 percent ad valorem.

Producer/exporter: Indonesia | Cash deposit rate
P.T. Krakatau Steel | 10.21 percent ad valorem.
All Others Rate | 10.21 percent ad valorem

This notice constitutes the countervailing duty orders with respect to certain hot-rolled carbon steel flat products from India and Indonesia, pursuant to section 706(a) of the Act. Interested parties may contact the CRU, for copies of an updated list of countervailing duty orders currently in effect.

These countervailing duty orders and amended final determination are issued and published in accordance with sections 706(a) and 705 of the Act and 19 CFR 351.211 and 351.224.

Dated: November 21, 2001.
Faryar Shirzad,
Assistant Secretary for Import Administration.

[FR Doc. 01-29812 Filed 11-30-01; 8:45 am]

BILLING CODE 3510-DS-P